DEPARTMENT OF DEFENSE

Office of the Secretary

Membership of the Performance Review Board

AGENCY: Defense Finance and Accounting Service, DOD.

ACTION: Notice.

This notice announces the appointment of the members of the Performance Review Board (PRB) of the Defense Finance and Accounting Service. The publication of PRB membership is required by 5 U.S.C. 4314(C)(4).

The PRB provides fair and impartial review of Senior Executive Service performance appraisals and makes recommendations regarding performance ratings and performance bonuses to the Director, DFAS.

DATES: Effective date: November 9, 2005.

FOR FURTHER INFORMATION CONTACT: Jerry Hovey, DFAS SES Program Manager, Defense Finance and Accounting Service, Arlington, Virginia, (863) 815-3709.

SUPPLEMENTARY INFORMATION: In accordance with 5 U.S.C. 4314(C)(4), the following executives are appointed to the Defense Finance and Accounting Service PRB: Brigadier General Jan Eakle, Patrick T. Shine, Leon J. Krushinski, Jerry S. Hinton, Kathleen D. Noe.

Executives listed will service a one-year renewable term, effective November 9, 2005.

Dated: October 4, 2005.
L.M. Bynum,
Alternate OSD Federal Register Liaison Officer, Department of Defense.

[FR Doc. 05-20392 Filed 10-11-05; 8:45am]

BILLING CODE 5001-06-M